DEPARTMENT OF COMMERCE

National Oceanic and Atmospheric Administration

50 CFR Part 600

[I.D. 041802D]

Magnuson-Stevens Act Provisions; General Provisions for Domestic Fisheries; Applications for Exempted Fishing Permits (EFPs)

AGENCY: National Marine Fisheries Service (NMFS), National Oceanic and Atmospheric Administration (NOAA), Commerce.

ACTION: Notification of a proposal for EFPs to conduct experimental fishing; request for comments.

SUMMARY: NMFS has made a preliminary determination that an application to issue an EFP to one vessel submitted by the Mount Desert Oceanarium of Southwest Harbor, ME contains all the information required by the regulations governing exempted experimental fishing under the provisions of the Magnuson-Stevens Fishery Conservation and Management Act (Magnuson-Stevens Act) and warrants further consideration.

The exemption would allow one fishing vessel to fish for, retain and land small numbers of regulated multispecies, monkfish, spiny dogfish, and several unmanaged species for the purpose of public display. NMFS has made a preliminary determination that the activities authorized under this EFP would be consistent with the goals and objectives of the Fishery Management Plans (FMPs) for these species. However, further review and consultation may be necessary before a final determination is made to issue an EFP. Therefore, NMFS announces that it intends to issue an EFP that would allow one vessel to conduct fishing operations otherwise restricted by the regulations governing fisheries of the northeastern United States.

Regulations under the Magnuson-Stevens Act require publication of this notification to provide interested parties the opportunity to comment on applications for proposed EFPs (see 50 CFR 600.745).

DATES: Comments on this notification must be received at the appropriate address or fax number (see ADDRESSES) on or before May 14, 2002.

ADDRESSES: Comments should be sent to Patricia Kurkul, Regional Administrator, NMFS, Northeast Regional Office, 1 Blackburn Drive, Gloucester, MA 01930. Mark on the outside of the envelope “Comments on Exempted Fishing Permit Application.”

FOR FURTHER INFORMATION CONTACT: Myles Raizin, Fishery Policy Analyst, 978-281-9104.

SUPPLEMENTARY INFORMATION: The Mount Desert Oceanarium of Southwest Harbor, ME submitted an application for an EFP on March 11, 2002 to collect several species of fish for public display. The target species would include winter flounder (blackbacks), witch flounder (dabs), yellowtail flounder, American plaice (grey sole), Atlantic halibut, monkfish, eel pouts, sculpins, sea ravens, Atlantic cod, wolfish, spiny dogfish, little skate, barndoor skate, and various species of the Phyla Arthropoda (not including lobsters) and several species of Echinodermata.

A single chartered vessel would use a shrimp trawl with 2-inch (5.08-cm) mesh to collect marine fish over a 3-day period from May 7, 2002, through May 27, 2002. The specimens would be cared for in chilled and aerated seawater while on board the fishing vessel and would be transferred live to tanks the day they are caught. They would then be brought to shore, maintained in tanks for public display for a period of time not to exceed 5 months and returned to the sea in October 2002.

Collection would be made using a 2-inch (5.08-cm) mesh shrimp net within the Small Mesh Northern Shrimp Fishery Exemption Area (Area) off Maine. Since the shrimp fishery would be closed at the time of collection, an exemption from the Northeast multispecies minimum mesh regulation of 6-inch (15.24-cm) diamond/6.5-inch (16.51-cm) square mesh at 50 CFR 648.80(a)(2) for vessels operating in the Area would be required. If the target species cannot be located in the Area, an exemption from the Northeast multispecies minimum mesh regulation of 6-inch (15.24-cm) diamond/6.5-inch (16.51-cm) square mesh at 50 CFR 648.80(a)(2) would be required to allow collection farther east and southeast in portions of the Gulf of Maine/Georges Bank Regulated Mesh Area.

In addition, the applicant has requested exemptions from monkfish and multispecies days-at-sea requirements at 50 CFR 648.92 and 648.82. The target species would include winter flounder (blackbacks), witch flounder (dabs), yellowtail flounder, American plaice (grey sole), Atlantic halibut, monkfish, eel pouts, sculpins, sea ravens, Atlantic cod, wolfish, spiny dogfish, little skate, barndoor skate, and several species of the Phyla Arthropoda (excluding lobsters) and Echinodermata.

The applicant would retain a maximum of six fish per species, juveniles and adults combined. The applicant has requested exemption from minimum fish sizes and possession limits at 50 CFR 648.83, 648.86, 648.89, 648.93, 648.94 (multispecies and monkfish fisheries), 648.103, 648.105 (summer flounder fishery), 648.124, 648.125 (scup fishery), and 648.143, 648.145 (black sea bass fishery).

Any fishing activity conducted outside the scope of the exempted fishing activity would be prohibited.

Based on the results of this EFP, this action may lead to future rulemaking.

Authority: 16 U.S.C. 1801 et seq.

Dated: April 23, 2002.
Bruce C. Morehead,
Acting director, Office of Sustainable Fisheries, National Marine Fisheries Service.

[FR Doc. 02-10489 Filed 4-26-02; 8:45 am]

BILLING CODE 3510-22-S